DEPARTMENT OF HEALTH AND HUMAN SERVICES

National Institutes of Health

Statement of Organization, Functions, and Delegations of Authority

Part N, National Institutes of Health (NIH), of the Statement of Organization, Functions, and Delegations of Authority for the Department of Health and Human Services (DHHS) (40 FR 22859, May 27, 1975, as amended most recently at 66 FR 21406, April 30, 2001, and redesignated from Part HN as Part N at 60 FR 56605, November 9, 1995), is amended as set forth below to reflect the reorganization of the Office of Equal Opportunity, Office of the Director, NIH, as follows: (1) Retitle the Office of Equal Opportunity (NAD, formerly HNAD) as the Office of Equal Opportunity and Diversity Management and revise the functional statement; (2) retitle the Complaints Management and Adjudication Branch (NAD2, fomerly HNAD2) as the Division of Complaints Management and Resolution and revise the functional statement; (3) establish the Division of Diversity Policy, Planning and Evaluation (NAD5, formerly HNAD5), and transfer into this division the functions of the Affirmative Employment and Programs Branch (NAD3, formerly HNAD3) and the Program Planning and Evaluation Branch (NAD4, formerly HNAD4); and (4) abolish the Affirmative Employment and Programs Branch (NAD3) and the Program Planning and Evaluation Branch (NAD4).

Section N-B, Organization and Functions, is amended by replacing the current section NAD (formerly HNAD) with the following:

Office of Equal Opportunity and Diversity Management (NAD, formerly HNAD). Serves as the focal point for NIH-wide policy formulation, implementation, coordination and management of the civil rights, equal opportunity, affirmative employment, and workforce diversity programs of the NIH. Specifically, NAD (1) advises the NIH director and staff, as well as Institute and Center (IC) staff, on matters related to the equal employment opportunity (EEO) programs and policies of the NIH; (2) provides leadership on policy development and implementation in all areas of EEO to include diversity management, affirmative action planning, and complaints management; (3) consults with and provides advice and guidance to responsible NIH officials regarding the progress of the EEO programs within their respective organizations; (4) oversees the implementation of Title VI of the Civil Rights Act as it relates to research contractors and grantees, and reports its progress to the NIH Director; (5) provides leadership in the overall management of the discrimination and complaints process for all NIH employees or applicants in all pay plans to ensure fair and judicious treatment of all parties involved; (6) provides advice and guidance to responsible NIH management officials on developing and implementing their Affirmative Action plans and Workforce Diversity initiatives; (7) provides advice and guidance to sponsoring ICs in the planning and presentation of annual NIH cultural observances and EEO educational seminars or programs; (8) represents the NIH Director in contacts with groups, both within and outside NIH, and maintains liaison with other Federal agencies regarding EEO issues; (9) serves as the NIH focal point for coordinating administrative matters relating to the Office of Personnel Management, Merit Systems Protection Board, Equal Employment Opportunity Commission, Department of Justice, United States Commission on Civil Rights, DHHS Office of Civil Rights and the DHHS Office of the General Counsel regarding NIH EEO programs (10) prepares responses to Congressional, internal, external, and other inquiries on issues relating to NIH EEO programs and policies; (11) performs studies and analyses, as necessary, and provides related advice and guidance to NIH program managers in support of the EEO programs at NIH; and (12) conducts evaluations of EEO programs for NIH components and ensures compliance with all applicable laws and regulations.

Division of Complaints Management and Resolution (NAD2, formerly HNAD2). Provides leadership in the overall management of the discrimination complaints process for all NIH employees or applicants in all pay plans. Specifically, NAD2 (1) manages and provides oversight for NIH complaints processing; (2) manages the formal complaints process for all NIH components, conducts investigations, reviews and analyzes investigative files, prepares proposed dispositions, (including addressing management problems identified in the investigations), presents recommendations for corrective action, identifies those complaints recommended for settlement, and prepares appropriate documents; (3) monitors and reviews the Commissioned Corps complaint management system to ensure proper processing of complaints; (4) monitors discrimination complaints at the NIH level to identify patterns of discrimination, as well as conducts data analysis on trends in filing and resolution of similar complaints; (5) prepares responses to Congressional or other requests and inquiries on EEO complaints; (6) provides leadership in policy development or changes to current NIH policies and procedures in the area of the discrimination complaints process and resolution; (7) represents the Director, Office of Equal Opportunity and Diversity Management (OEODM), at all internal and external meetings related to complaints processing and adjudication; and (8) serves as the NIH focal point for coordinating administrative matters relating to the Office of Personnel Management, Merit Systems Protection Board, Equal Employment Opportunity Commission, Justice Department and the DHHS Office of the General Counsel.

Division of Diversity Policy, Planning and Evaluation (NAD5, formerly HNAD5). Provides leadership in the overall management of all areas related to diversity management and affirmative action as well as compliance with all EEO related requirements and evaluation of EEO and diversity programs throughout the NIH. Specifically, NAD5 (1) serves as consultant to senior NIH management officials as well as IC program officials in all areas of equal opportunity, civil rights, affirmative action, and diversity management; (2) provides advice and guidance to responsible NIH management officials on developing and implementing their Affirmative Action Plans and Workplace Diversity initiatives; (3) identifies training and educational needs in the areas of affirmative employment and diversity management and assesses the effectiveness of training activities; (4) in collaboration with the OIR, OEO and OHRM, develops NIH-wide policies and initiatives to eliminate barriers to equal employment opportunity and the effective management of diversity, which includes all job categories and segments of the work force; (5) ensures that all laws, regulations, executive orders, procedure and policies governing equal opportunity, civil rights, affirmative action, and diversity management are promulgated throughout the NIH; (6) provides leadership to the ICs and coordinates recruitment, placement and retention programs and strategies for underrepresented groups by promoting EEO and diversity awareness for all members of the NIH workforce; (7) in conjunction with the Office of Human Resource Management (OHRM) and the ICs, conducts community outreach activities to increase minority representation in new hires and career opportunities; (8) examines organizational personnel policies and practices to identify and eliminate barriers to full participation of all EEO groups in NIH employment opportunities; (9) provides advice and guidance to sponsoring ICs in the planning and presentation of annual NIH cultural observances and EEO educational seminars or programs; (10) develops criteria and conducts EEO and diversity program evaluations for NIH components; (11) develops and utilizes statistical research methods for the collection and analysis of data on various aspects of EEO to include new or modified methods to analyze workforce profiles, manpower distributions, and overall EEO effectiveness, and prepares and issues statistical reports on these projects; (12) handles EEO data requests from external and internal organizations, OEODM assessments and reports required by higher level authorities, as well as responses to Congressional and other inquires on affirmative action and diversity management; and (13) serves as the NIH focal point for coordinating administrative matters relating to the Office of Personnel Management, Merit Systems Protection Board, Equal Employment Opportunity Commission, Justice Department, and the DHHS Office of the General Counsel regarding the NIH affirmative action and diversity management programs.

Delegations of authority statement: All delegations and redelegations of authority to offices and employees of NIH which were in effect immediately prior to the effective date of this reorganization and are consistent with this reorganization shall continue in effect, pending further redelegation.

Dated: March 8, 2002.
Ruth L. Kirschstein,
Acting Director, National Institutes of Health.

[FR Doc. 02-7274 Filed 3-26-02; 8:45 am]

BILLING CODE 4140-01-M